FEDERAL ELECTION COMMISSION

[Notice 2024-14]

Filing Dates for the New Jersey Special Election in the 10th Congressional District

AGENCY: Federal Election Commission.

ACTION: Notice of filing dates for special election.

SUMMARY: New Jersey has scheduled special elections on July 16, 2024, and September 18, 2024, to fill the U.S. House of Representatives seat in the 10th Congressional District of the late Representative Donald M. Payne, Jr. Committees required to file reports in connection with the Special Primary Election on July 16, 2024, shall file a 12-day Pre-Primary Report. Committees required to file reports in connection with both the Special Primary and Special General on September 18, 2024, shall file a 12-day Pre-Primary, a 12-day Pre-General and a 30-Day Post-General Report.

ADDRESSES: 1050 First Street NE, Washington, DC 20463.

FOR FURTHER INFORMATION CONTACT: Ms. Elizabeth S. Kurland, Information Division, (202) 694-1100 or (800) 424-9530, info@fec.gov.

SUPPLEMENTARY INFORMATION:

Principal Campaign Committees

All principal campaign committees of candidates who participate in the New Jersey Special Primary and Special General Election shall file a 12-day Pre-Primary Report on July 4, 2024; a 12-day Pre-General Report on September 6, 2024, and a 30-day Post-General Report on October 18, 2024. (See charts below for the closing date for each report.)

Note that these reports are in addition to the campaign committee's regular quarterly filings. (See charts below for the closing date for each report.)

Unauthorized Committees (PACs and Party Committees)

Political committees not filing monthly are subject to special election reporting if they make previously undisclosed contributions or expenditures in connection with the New Jersey Special Primary or Special General Election by the close of books for the applicable report(s). (See charts below for the closing date for each report.)

Committees filing monthly that make contributions or expenditures in connection with the New Jersey Special Primary or Special General Election will continue to file according to the monthly reporting schedule.

Additional disclosure information for the New Jersey special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of $22,700 during the special election reporting periods. (See charts below for closing date of each period.) 11 CFR 104.22(a)(5)(v), (b), 110.17(e)(2), (f).

¹ The reporting period always begins the day after the closing date of the last report filed. If the committee is new and has not previously filed a report, the first report must cover all activity that occurred before the committee registered as a political committee up through the close of books for the first report due.

² Notice that this filing deadline falls on a weekend or federal holiday. Filing deadlines are not extended when they fall on nonworking days. Accordingly, reports filed by methods other than registered, certified or overnight mail, or electronically, must be received before the Commission's close of business on the last business day before the deadline.

Calendar of Reporting Dates for New Jersey Special Elections
Report | Close of books ¹ | Reg./Cert. & overnight filing mailing deadline | Filing deadline
Political Committees Involved in Only the Special Primary (07/16/2024) Must File:
Pre-Primary | 06/26/2024 | 07/01/2024 | ² 07/04/2024
July Quarterly | 06/30/2024 | 07/15/2024 | 07/15/2024
Political Committees Involved in Both the Special Primary (07/16/2024) and Special General (09/18/2024) Must File:
Pre-Primary | 06/26/2024 | 07/01/2024 | ² 07/04/2024
July Quarterly | 06/30/2024 | 07/15/2024 | 07/15/2024
Pre-General | 08/29/2024 | 09/03/2024 | 09/06/2024
October Quarterly | WAIVED
Post-General | 10/08/2024 | 10/18/2024 | 10/18/2024
Year-End | 12/31/2024 | 01/31/2025 | 01/31/2025
Political Committees Involved in Only the Special General (09/18/2024) Must File:
Pre-General | 08/29/2024 | 09/03/2024 | 09/06/2024
October Quarterly | WAIVED
Post-General | 10/08/2024 | 10/18/2024 | 10/18/2024
Year-End | 12/31/2024 | 01/31/2025 | 01/31/2025

On behalf of the Commission.
Dated: May 9, 2024.
Sean J. Cooksey,
Chairman, Federal Election Commission.

[FR Doc. 2024-10501 Filed 5-13-24; 8:45 am]

BILLING CODE 6715-01-P